NUCLEAR REGULATORY COMMISSION

[Docket No. 50-341]

Detroit Edison Company; FERMI 2; Environmental Assessment and Finding of No Significant Impact

The U.S. Nuclear Regulatory Commission (NRC) is considering issuance of an exemption from Title 10 of the Code of Federal Regulations (10 CFR) part 50, appendix E, Section IV.F.2.b, for conducting a biennial emergency preparedness exercise for Facility Operating License No. NFP-43, issued to Detroit Edison Company (the licensee), for operation of Fermi 2, located in Monroe County, Michigan. Therefore, as required by 10 CFR 51.21, the NRC performed an environmental assessment. Based on the results of the environmental assessment, the NRC is issuing a finding of no significant impact.

Environmental Assessment

Identification of the Proposed Action

The proposed action is in accordance with the licensee's application dated August 3, 2010, as supplemented by letters dated October 22, 2010, and November 15, 2010. Following a telephone conference with the NRC staff on September 17, 2010, the licensee determined the postponement of the exercise into calendar year 2011 to be an acceptable option to the licensee's original request for crediting the response to a tornado event on June 6, 2010, in place of the 2010 exercise.

The Need for the Proposed Action

Detroit Edison's Fermi 2 biennial evaluated exercise was scheduled to be conducted on June 8, 2010. However, on June 6, 2010 at 0217 hours, a tornado warning was issued for Monroe County due to a storm front moving through southeast Michigan. At 0238 hours, a tornado swept across the Fermi 2 property. At 0253 hours, the Shift Manager declared an Unusual Event based on reports of storm damage within the protected area, including loss of both 345kV lines for Division 2 of offsite power supply, and the loss of two out of three 120kV lines for Division 1 of offsite power supply.

Review of the actions that occurred during the June 6, 2010 actual event supplemented by the drills, exercises, and other training activities conducted since the previous biennial exercise, provides evidence that Fermi 2 has regularly exercised its emergency response strategies and personnel in coordination with the offsite authorities as required by regulations. In addition, due to a refueling outage during the fourth quarter of 2010, an alternative to schedule and conduct a biennial exercise in 2010 was ruled out by the licensee.

The proposed action would exempt Fermi 2 from the requirements of conducting a biennial emergency preparedness exercise in the calendar year 2010 and postpone it into the calendar year 2011. Granting an exemption from the requirement of conducting the biennial exercise will not pose an undue risk to public health and safety and will ensure that focus is maintained on plant safety and security.

Environmental Impacts of the Proposed Action

The NRC staff has completed its evaluation of the proposed action and concludes that the proposed action is an exemption from the requirements of conducting a biennial emergency preparedness exercise. Whether or not the exercise is conducted would have no effect on the environment since any outdoor activity during an exercise is limited to minimal use of roads and highways. The staff has concluded that the changes would not significantly affect plant safety. The proposed action would not result in an increased radiological hazard beyond those previously analyzed in the Updated Safety Analysis Report. There will be no change to radioactive effluents that affect radiation exposures to plant workers and members of the public. No changes will be made to plant buildings or the site property. Therefore, no changes or different types of radiological impacts are expected as a result of the proposed changes.

There are no federal permits, licenses, approvals and other entitlements which must be obtained in connection with the proposed action. The proposed action is not subject to any environmental quality standards or requirements imposed by Federal, State, regional, or local agencies having responsibility for environmental protection.

The details of the staff's safety evaluation will be provided in the exemption issued as part of the letter to the licensee approving the exemption to the regulation, if granted.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are no known socioeconomic or environmental justice impacts associated with such proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the Enrico Fermi Atomic Power Plant, Unit 2, NUREG-0769, dated August 1981, as supplemented with Addendum No. 1 in March 1982.

Agencies and Persons Consulted

In accordance with its stated policy, on November 22, 2010, the staff consulted with the State official, Mr. Ken Yale, of the Michigan Department of Natural Resources and Environment regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated August 3, 2010 (Agencywide Documents Access and Management System (ADAMS) Accession No. ML102230442), as supplemented by letters dated October 22, 2010 (ADAMS Accession No. ML102950490) and November 15, 2010 (ADAMS Accession No. ML103200126). Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 14th day of December, 2010.
For the Nuclear Regulatory Commission.
Mahesh Chawla,
Project Manager, Plant Licensing Branch III-1, Division of Operating Reactor Licensing, Office of Nuclear Reactor Regulation.

[FR Doc. 2010-32425 Filed 12-23-10; 8:45 am]

BILLING CODE 7590-01-P